DEPARTMENT OF AGRICULTURE

Rural Housing Service

Notice of Funds Availability for Section 514 Farm Labor Housing Loans and Section 516 Farm Labor Housing Grants for Off-Farm Housing for Fiscal Year (FY) 2011

AGENCY: Rural Housing Service, USDA.

ACTION: Notice; correction.

SUMMARY: This notice corrects the scoring points available to a Notice published in the Federal Register on July 7, 2011 regarding Funds Availability for Section 514 Farm Labor Housing Loans and Section 516 Farm Labor Housing Grants for Off-Farm Housing for FY 2011. The correction changes the scoring under section VI. Pre-Application Review Information, (A)(1)(v)(b) entitled Energy Conservation for Purchase and Substantial Rehabilitation for an existing non-Farm Labor Housing (FLH) property. The scoring has changed to increase the maximum points from 16 points to 32 points.

FOR FURTHER INFORMATION CONTACT: Mirna Reyes-Bible, Finance and Loan Analyst, Multi-Family Housing Preservation and Direct Loan Division, STOP 0781 (Room 1263-S), USDA Rural Development, 1400 Independence Avenue, SW., Washington, DC 20250-0781, telephone: (202) 720-1753 (This is not a toll free number), or via e-mail: Mirna.ReyesBible@wdc.usda.gov. If you have questions regarding Net Zero Energy Consumption and Energy Generation please contact Carlton Jarratt, Finance and Loan Analyst, Multi-Family Housing Preservation and Direct Loan Division at (804) 287-1524 or via e-mail: carlton.jarrat@wdc.usda.gov.

Correction

In the notice beginning on page 39,813 in the issue of July 7, 2011, make the following correction under paragraph (b) entitled Energy Conservation for Purchase and Substantial Rehabilitation for an existing non-FLH property. In the first column for page 39,818 replace the entire paragraph (b) with the following:

(b) Energy Conservation for Purchase and Substantial Rehabilitation of an Existing Multifamily Property (maximum 32 points). Pre-applications for the purchase and substantial rehabilitation of non-program MFH and related facilities in rural areas may be eligible to receive 32 points for the following initiatives:

Note: If you are participating in (1) The Green Communities program, you may not receive additional points for items listed under (2). In other words, you may participate in (1) and (3) or (2) and (3), but not all three:

(1) Participation in the Green Communities program by the Enterprise Community Partners, http://www.enterprisecommunity.org, will be awarded 30 points for any project that qualifies for the program. (30 points) At least 30 percent of the points needed to qualify for the Green Communities program must be earned under the Energy Efficiency section of the Green Communities qualification program; or,

(2) Energy conservation points can be awarded for the following energy conservation measures only when the applicant is not enrolled in Green Communities and conservation measures are listed in the preliminary plans for substantial rehabilitation. (maximum 20 points).

• Replacement of heating, ventilation and air conditioning (HVAC) equipment with Energy Star qualified heating, HVAC equipment. (3 points).

• Replacement of windows and doors with Energy Star qualified windows and doors. (3 points).

• Additional insulation is added to the property to exceed the required R-Value of those building elements in that area of the country per the International Energy Conservation Code 2009. Two points will be awarded if all exterior walls exceed insulation code and 1 point will be awarded if attic insulation exceeds code for a maximum of 3 points. (maximum 3 points).

• Reduction in building shell air leakage by at least 15 percent as determined by pre- and post-rehabilitation blower door testing on a sample of units. Building shell air leakage may be reduced through materials such as caulk, spray foam, gaskets, and house-wrap. Sealing of duct work with mastic, foil-backed tape, or aerosolized duct sealants can also help reduce air leakage. (3 points).

• 100 percent of installed appliances and exhaust fans are Energy Star qualified. (2 points).

• 100 percent of installed water heaters as Energy Star qualified. (2 points).

• 100 percent of toilets with flush capacity of more than 1.6 gallon flush capacity are replaced with new toilets with 1.6 gallon capacity or less, with Environmental Protection Agency (EPA) Water Sense label. (1 point).

• 100 percent of showerheads are replaced with new showerheads with EPA Water Sense label. (1 point).

• 100 percent of faucets are replaced with new faucets with EPA Water Sense label. (1 point).

• 100 percent Energy-efficient lighting including Energy Star qualified fixtures, compact fluorescent replacement bulbs in standard incandescent fixtures, and Energy Star Ceiling Fans. (1 point); and,

(3) Participation in local green/energy efficient building standards. Applicants, who participate in a city, county or municipality program, will receive an additional 2 points. The applicant should be aware of and look for additional requirements that are sometimes embedded in the third-party program's rating and verification systems. (2 points).

Dated: August 11, 2011.
Robert Lewis,,
Acting Administrator, Housing and Community Facilities Programs.

[FR Doc. 2011-21013 Filed 8-17-11; 8:45 am]

BILLING CODE 3410-XV-P